DEPARTMENT OF LABOR

Employment and Training Administration

[TA-W-50,902]

Daniel Blanton, Homosassa, FL; Notice of Termination of Investigation

Pursuant to section 221 of the Trade Act of 1974, as amended, an investigation was initiated on February 14, 2003 in response to a petition filed by a company official on behalf of workers at Daniel Blanton, Homosassa, Florida.

The Department has been unable to locate a company official to obtain the information necessary to render a determination on worker group eligibility.

Consequently, further investigation in this case would serve no purpose, and the investigation has been terminated.

Signed at Washington, DC this 25th day of April, 2003.
Linda G. Poole,
Certifying Officer, Division of Trade Adjustment Assistance.

[FR Doc. 03-11548 Filed 5-8-03; 8:45 am]

BILLING CODE 4510-30-P